ENVIRONMENTAL PROTECTION AGENCY

[FRL-7251-6]

Agency Information Collection Activities: Proposed Collection; Comment Request; Information Collection Request for Customer Satisfaction Surveys

AGENCY: Environmental Protection Agency (EPA).

ACTION: Notice.

SUMMARY: In compliance with the Paperwork Reduction Act (44 U.S.C. 3501 et seq.), this notice announces that the EPA is planning to submit the following continuing Information Collection Request (ICR) to the Office of Management and Budget (OMB): Information Collection Request for Customer Satisfaction Surveys, EPA # 1711.04, OMB Control Number 2090-0019, expiring 03/31/03. Before submitting the ICR to OMB for review and approval, the EPA is soliciting comments on specific aspects of the proposed information collection as described below.

DATES: Comments must be submitted on or before October 24, 2002.

ADDRESSES: USEPA, Office of the Administrator, Office of Policy, Economics and Innovation, PPCD/CSP-1807T, 1200 Pennsylvania Avenue, NW., Washington, DC 20460. To fax requests and comments, call: 202-566-2200. E-mail comments to: bonner.patricia@epa.gov. When completed, the ICR application will be available electronically at: http://www.epa.gov/icr/icr/1711.htm and in printed form from 202-566-2216.

FOR FURTHER INFORMATION CONTACT: Patricia A. Bonner, telephone: 202-566-2204; fax 202-566-2200.

SUPPLEMENTARY INFORMATION: Affected entities: Entities potentially affected by this action are those which request or receive Agency information, products or services, or participate in Agency processes.

Title: Information Collection Request for Customer Satisfaction Surveys, OMB Control Number 2090-0019, EPA ICR Number 1711.04, expiring 03/31/03.

Abstract: Voluntary customer surveys will involve individuals who experience EPA services directly. Though EPA will use all available feedback gathering mechanisms to determine the level of customer satisfaction with attributes of its services, much of this collection will be electronic (60%). The EPA will use information obtained to assist in evaluating and improving service delivery and processes. The Agency may not conduct or sponsor, and a person is not required to respond to, a collection of information unless it displays a currently valid OMB control number.

The EPA encourages comments to evaluate or suggest: whether the proposed collection of information is necessary for the proper performance of the functions of the Agency; the accuracy of the Agency's burden estimate, and the validity of the methodology and assumptions used; how to enhance the quality, utility, and clarity of the information to be collected; and how to minimize the burden of the collection of information on those who are to respond, including appropriate applications of information technology.

Burden: The average estimated respondent burden is 7.2 minutes. Burden means the total time, effort, or financial resources expended by persons to generate, maintain, retain, or disclose or provide information to or for a Federal agency, including the time needed to: review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Time is the only direct respondent cost. Respondent cost was calculated using the March 2002 Bureau of Labor Statistics figure of $23.15 as the hourly wage (with benefits) for civilian wage and salary workers. The EPA estimates the following for the year 2003—2005:

Year | Respondents | Burden hours | Respondent cost
2003 | 39,823 | 4691 | $2.72/response ($108,596.65).
2004 | 40,148 | 4821 | $2.77/response ($111,606.15).
2005 | 40,073 | 4821 | $2.78/response ($111,606.15).

Dated: July 18, 2002.
Betsy Shaw,
Director, Office of Environmental Policy Innovation, Office of Policy, Economics and Innovation, Office of the Administrator.

[FR Doc. 02-18995 Filed 7-25-02; 8:45 am]

BILLING CODE 6560-50-P